DEPARTMENT OF TRANSPORTATION

Pipeline and Hazardous Materials Safety Administration

Hazardous Materials: Notice of Application for Modification of Special Permit

AGENCY: Office of Hazardous Materials Safety, Pipeline and Hazardous Materials Safety Administration (PHMSA), DOT.

ACTION: List of Application for Modification of Special Permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before June 4, 2015.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for modification of special permit is published in accordance with Part 107 of the Federal hazardous materials transportation law (49 U.S.C. 5117(b); 49 CFR 1.53(b)).

Issued in Washington, DC, on May 7, 2015.
Daniel Burger,
Chief, General Approvals and Permits.

Modification Special Permits
Application No. | Docket No. | Applicant | Regulation(s) affected | Nature of special permits thereof
8757-M |  | Milton Roy Company, Ivyland, PA | 49 CFR 173.302(a)(1); 173.304(a)(1); 175.3; 173.304(b)(1); 178.42 | To modify the special permit to authorize additional hazardous materials.
10232-M |  | ITW Sexton, Decatur, AL | 49 CFR 173.304(d) and 173.306(a)(3) | To modify the special permit to authorize an additional hazardous material and limited quantity authorized.
11666-M |  | SGL Carbon, LLC (SGL), Charlotte, NC | 49 CFR 173.240(b) | To modify the special permit to authorize green graphite products being shipped on open flat-bed trailers to be secured with plastic bandings.
12092-M |  | KMR Industries, LLC, Columbia, MD | 49 CFR 173.34(e) | To modify the special permit to authorize DOT specification 48W240 or 4BW260 cylinder closed by plugs or flanges to authorize up to 1,000 pounds water capacity.
12929-M |  | Matheson Tri-Gas, Inc., Basking Ridge, NJ | 49 CFR 173.301(j)(1) | To modify the special permit to replace the work instructions for DOT specification cylinders manufactured with foreign specification charged for export only.
14848-M |  | Corning Incorporated, Corning, NY | 49 CFR 172.202, 172.301, 172.400, 172.504 and 177.834(h) | To modify the special permit to consolidate DOT-SP 14848 and DOT-SP 1427 to a single special permit.

Modification Special Permits
Application No. | Docket No. | Applicant | Regulation(s) affected | Nature of special permits thereof
14849-M |  | Call2Recycle, Inc. Atlanta, GA | 49 CFR 172.200, 172.300, 172.400 | To modify the special permit to authorize dry cell alkaline batteries up to 12 volts in combination with any other used or spent batteries rated greater than 9-volts in the same package.
16333-M |  | Liberty Industrial Gases & Welding Supply Inc. Brooklyn, NY | 49 CFR 171.2(3) and 177.801 | To modify the special permit originally issued on an emergency basis to authorize an additional two years.

[FR Doc. 2015-11825 Filed 5-19-15; 8:45 am]

BILLING CODE 4909-60-M